FEDERAL COMMUNICATIONS COMMISSION

Notice of Public Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission (FCC) invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and further ways to reduce the information burden for small business concerns with fewer than 25 employees. The FCC may not conduct or sponsor a collection of information unless it displays a currently valid OMB Control Number. No person shall be subject to any penalty for failing to comply with a collection of information subject to the Paperwork Reduction Act (PRA) that does not display a valid Control Number.

DATES: Written Paperwork Reduction Act (PRA) comments should be submitted on or before September 15, 2014. If you anticipate that you will be submitting comments, but find it difficult to do so within the period of time allowed by this notice, you should advise the FCC contact listed below as soon as possible.

ADDRESSES: Submit your PRA comments to Leslie F. Smith, Office of Managing Director (OMD), Federal Communications Commission (FCC), via the Internet at Leslie.Smith@fcc.gov. To submit your PRA comments by email, send them to PRA@fcc.gov.

FOR FURTHER INFORMATION CONTACT: For additional information, contact Leslie F. Smith at (202) 418-0217, or via the Internet at PRA@fcc.gov.

SUPPLEMENTARY INFORMATION:

OMB Control Number: 3060-0770.

Title: Sections 61.49 and 69.4, Price Cap Performance Review for Local Exchange Carriers, CC Docket Nos. 94-1 et al.; Fifth Report and Order, FCC 99-206 (New Services).

Form Number: N/A.

Type of Review: Revision of a currently approved collection.

Respondents: Business or other for-profit.

Number of Respondents and Responses: 13 respondents; 13 responses.

Estimated Time per Response: 10 hours.

Frequency of Response: On occasion reporting requirements.

Obligation to Respond: Required to obtain or retain benefits. Statutory authority for this collection of information is contained in 47 U.S.C. sections 151, 154(i), 154(j), 201-205, 303(r), and 403.

Total Annual Burden: 130 hours.

Annual Cost Burden: $10,985.

Privacy Act Impact Assessment: No impact(s).

Nature and Extent of Confidentiality: No information of a confidential nature is requested. However, respondents may request materials or information submitted to the Commission to be withheld from public inspection under 47 CFR 0.459 of the Commission's rules.

Needs and Uses: In the August 1999 Fifth Report and Order and Further Notice of Proposed Rulemaking (Pricing Flexibility Order), FCC-206, CC Docket Nos. 94-1 et al., 64 FR 51280 (Sept. 22, 1999), the Commission permitted price cap local exchange carriers (LECs) to introduce new services on a streamlined basis, without prior approval or cost support requirements. The Commission eliminated the public interest showing required by section 69.4(g) and the new services test required by sections 61.49 (f) and (g), except in the case of new loop-based switched access services. The information submitted by price cap LECs will be used to determine whether their proposed rates for new loop-based switched access services are in the public interest and whether they meet the new services test.

Federal Communications Commission.
Marlene H. Dortch,
Secretary.

[FR Doc. 2014-16618 Filed 7-15-14; 8:45 am]

BILLING CODE 6712-01-P